DEPARTMENT OF THE INTERIOR

U.S. Geological Survey

Agency Information Collection Activities: Comment Request

AGENCY: U.S. Geological Survey (USGS), Interior.

ACTION: Notice of an extension of an information collection (1028-0082).

SUMMARY: To comply with the Paperwork Reduction Act of 1995 (PRA), we are notifying the public that we have submitted to the Office of Management and Budget (OMB) an information collection request (ICR) for the extension of the currently approved paperwork requirements for Bird Banding and Recovery Reports. This collection consists of two forms (Application for Federal Bird Banding or Marking Permit and Reporting Encounter of Marked Bird with a Metal Federal Band (Recovery Report) and an electronic database (Bandit). We may not conduct or sponsor and a person is not required to respond to a collection of information unless it displays a currently valid OMB control number.

DATES: You must submit comments on or before August 21, 2009.

ADDRESSES: Please submit written comments on this information collection directly to the Office of Management and Budget (OMB) Office of Information and Regulatory Affairs, Attention: Desk Officer for the Department of the Interior via e-mail to OIRA_DOCKET@omb.eop.gov or fax at 202-395-5806; and identify your submission as 1028-1082. Please also submit a copy of your written comments to Phadrea Ponds, USGS Information Collection Clearance Officer, 2150-C Center Avenue, Fort Collins, CO 80525 (mail); (970) 226-9230 (fax); or pponds@usgs.gov (e-mail). Use OMB Control Number 1028-0082 in the subject line.

FOR FURTHER INFORMATION CONTACT: Bruce Peterjohn by mail at USGS Patuxent Wildlife Research Center, 12100 Beech Forest Rd., Laurel, MD 20708, or by telephone at (301) 497-5646.

I. Supplementary Information

Abstract: The primary role of the Bird Banding Laboratory (BBL) is to support the use of bird banding and banding data by researchers and managers engaged in science, conservation, and management of birds. The BBL collects information using two forms and one electronic database: (1) Application for Federal Bird Banding or Marking Permit, (2) Reporting Encounter of Marked Bird with a Metal Federal Band (Recovery Report), and (3) Bandit. Application for Federal Bird Banding or Marking Permit is used to identify individuals and evaluate their purpose, need, and qualifications to hold a permit. The Recovery Report is used by individuals that encounter a banded bird to report the information to the banding lab. All of the information on the bird and the person reporting the bird are stored in the Bandit database. Bandit is an electronic database and is the latest in a long series of programs aimed at helping bird banders manage and submit their data for any number of banded birds. The principal use of Bandit is to store and transfer banding data to the BBL and the Canadian Bird Banding Office (BBO) during bird banding operations.

II. Data

OMB Control Number: 1028-0082.

Title: Bird Banding and Recovery Reports.

Type of Request: Extension of a currently approved collection.

Respondent Obligation: The Recovery Report is voluntary. The Permit Application and Bandit are required to obtain or retain benefits.

Frequency of Collection: On occasion.

Affected Public: Individuals, businesses, universities, organizations, and States.

Estimated Number of Responses: 89,378.

Annual Burden Hours: 28,048 (275 for applications; 4,250 for recovery reports; and 23,523 for Bandit).

Estimated Reporting and Recordkeeping “Non-Hour Cost” Burden: We have not identified any “non-hour cost” burdens associated with this collection of information.

III. Request for Comments

On February 6, 2009, we published a Federal Register notice (74 FR 6304) announcing that we would submit this ICR to OMB for approval and soliciting comments. The comment period closed on April 7, 2009. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publicly available at anytime. While you can ask us in your comment to withhold your personal identifying information from public review, we cannot guarantee that we will be able to do so.

USGS Information Collection Clearance Officer: Phadrea Ponds, 970-226-9445.

Dated: July 14, 2009.
Susan D. Haseltine,
Associate Director for Biology, U.S. Geological Survey.

[FR Doc. E9-17370 Filed 7-21-09; 8:45 am]

BILLING CODE 4311-AM-P